DEPARTMENT OF HEALTH AND HUMAN SERVICES

Centers for Medicare & Medicaid Services

42 CFR Part 412

[CMS-1554-F]

RIN 0938-AP19

Medicare Program; Inpatient Rehabilitation Facility Prospective Payment System for Federal Fiscal Year 2009

Correction

In rule document Z8-17797 beginning on page 46370 in the issue of Friday, August 8, 2008, make the following correction:

On page 46375, in Table 1, in the third column, in the ninth entry,“.0347” should read “3.0347”.

[FR Doc. Z8-17797 Filed 9-11-08; 8:45 am]

BILLING CODE 1505-01-D